DEPARTMENT OF ENERGY

Federal Energy Regulatory Commission

Combined Notice of Filings #2

Take notice that the Commission received the following electric corporate filings:

Docket Numbers: EC11-101-000.

Applicants: Rumford Paper Company, Rumford Falls Hydro LLC.

Description: Application under Section 203 of the FPA of Rumford Paper Company and Rumford Falls Hydro LLC for the return of certain jointly owned electrical delivery facilities.

Filed Date: 08/03/2011.

Accession Number: 20110803-5063.

Comment Date: 5 p.m. Eastern Time on Wednesday, August 24, 2011.

Take notice that the Commission received the following electric rate filings:

Docket Numbers: ER11-4195-000.

Applicants: Puget Sound Energy, Inc.

Description: Puget Sound Energy, Inc. submits tariff filing per 35.1: Rate Schedule No. 94 to be effective 10/1/2011.

Filed Date: 08/03/2011.

Accession Number: 20110803-5000.

Comment Date: 5 p.m. Eastern Time on Wednesday, August 24, 2011.

Docket Numbers: ER11-4196-000.

Applicants: Michigan Electric Transmission Company, Midwest Independent Transmission System Operator, Inc.

Description: Michigan Electric Transmission Company, LLC submits tariff filing per 35.13(a)(2)(iii): METC-Gratiot County Wind E&P to be effective 10/3/2011.

Filed Date: 08/03/2011.

Accession Number: 20110803-5013.

Comment Date: 5 p.m. Eastern Time on Wednesday, August 24, 2011.

Docket Numbers: ER11-4197-000.

Applicants: Michigan Electric Transmission Company, LLC, Midwest Independent Transmission System Operator, Inc.

Description: Michigan Electric Transmission Company, LLC submits tariff filing per 35.13(a)(2)(iii): METC-Lowell Light and Power IFA to be effective 10/3/2011.

Filed Date: 08/03/2011.

Accession Number: 20110803-5014.

Comment Date: 5 p.m. Eastern Time on Wednesday, August 24, 2011.

Docket Numbers: ER11-4198-000.

Applicants: Midwest Independent Transmission System Operator, Inc., ITC Midwest LLC.

Description: Midwest Independent Transmission System Operator, Inc. submits tariff filing per 35.13(a)(2)(iii): ITC Midwest-Lost Lakes E&P to be effective 10/3/2011.

Filed Date: 08/03/2011.

Accession Number: 20110803-5015.

Comment Date: 5 p.m. Eastern Time on Wednesday, August 24, 2011.

Docket Numbers: ER11-4199-000.

Applicants: Midwest Independent Transmission System Operator, Inc., ITC Midwest LLC.

Description: Midwest Independent Transmission System Operator, Inc. submits tariff filing per 35.13(a)(2)(iii): ITCM-City of Jackson IA to be effective 10/3/2011.

Filed Date: 08/03/2011.

Accession Number: 20110803-5016.

Comment Date: 5 p.m. Eastern Time on Wednesday, August 24, 2011.

Docket Numbers: ER11-4202-000.

Applicants: Nevada Power Company.

Description: Nevada Power Company cancellation of FERC Electric Rate Schedule No. 22.

Filed Date: 08/03/2011.

Accession Number: 20110803-5057.

Comment Date: 5 p.m. Eastern Time on Wednesday, August 24, 2011.

Docket Numbers: ER11-4203-000.

Applicants: Nevada Power Company.

Description: Nevada Power Company cancellation of FERC Electric Rate Schedule No. 21.

Filed Date: 08/03/2011.

Accession Number: 20110803-5058.

Comment Date: 5 p.m. Eastern Time on Wednesday, August 24, 2011.

Docket Numbers: ER11-4204-000.

Applicants: Nevada Power Company.

Description: Nevada Power Company Cancellation of FERC Electric Rate Schedule No. 35.

Filed Date: 08/03/2011.

Accession Number: 20110803-5059.

Comment Date: 5 p.m. Eastern Time on Wednesday, August 24, 2011.

Docket Numbers: ER11-4205-000.

Applicants: Nevada Power Company.

Description: Nevada Power Company Cancellation of FERC Electric Rate Schedule No. 30.

Filed Date: 08/03/2011.

Accession Number: 20110803-5060.

Comment Date: 5 p.m. Eastern Time on Wednesday, August 24, 2011.

Docket Numbers: ER11-4206-000.

Applicants: Nevada Power Company.

Description: Nevada Power Company Cancellation of FERC Electric Rate Schedule No. 15.

Filed Date: 08/03/2011.

Accession Number: 20110803-5062.

Comment Date: 5 p.m. Eastern Time on Wednesday, August 24, 2011.

Docket Numbers: ER11-4207-000.

Applicants: Nevada Power Company.

Description: Nevada Power Company cancellation of FERC Electric Rate Schedule No. 23.

Filed Date: 08/03/2011.

Accession Number: 20110803-5068.

Comment Date: 5 p.m. Eastern Time on Wednesday, August 24, 2011.

Docket Numbers: ER11-4208-000.

Applicants: Nevada Power Company.

Description: Nevada Power Company cancellation of FERC Electric Rate Schedule No. 26.

Filed Date: 08/03/2011.

Accession Number: 20110803-5069.

Comment Date: 5 p.m. Eastern Time on Wednesday, August 24, 2011.

Docket Numbers: ER11-4209-000.

Applicants: Nevada Power Company.

Description: Nevada Power Company cancellation of FERC Electric Rate Schedule No. 25.

Filed Date: 08/03/2011.

Accession Number: 20110803-5070.

Comment Date: 5 p.m. Eastern Time on Wednesday, August 24, 2011.

Docket Numbers: ER11-4210-000.

Applicants: Nevada Power Company.

Description: Nevada Power Company Cancellation of FERC Electric Rate Schedule No. 47.

Filed Date: 08/03/2011.

Accession Number: 20110803-5071.

Comment Date: 5 p.m. Eastern Time on Wednesday, August 24, 2011.

Docket Numbers: ER11-4211-000.

Applicants: Nevada Power Company.

Description: Nevada Power Company Cancellation of FERC Electric Rate Schedule No. 37.

Filed Date: 08/03/2011.

Accession Number: 20110803-5074.

Comment Date: 5 p.m. Eastern Time on Wednesday, August 24, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2011.
Kimberly D. Bose,
Secretary.

[FR Doc. 2011-20262 Filed 8-9-11; 8:45 am]

BILLING CODE 6717-01-P